COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products and services to the Procurement List that will be furnished by nonprofit agencies employing persons who are blind or have other severe disabilities.

DATES: Effective Date: 9/3/2012.

ADDRESSES: Committee for Purchase From People Who Are Blind or Severely Disabled, Jefferson Plaza 2, Suite 10800, 1421 Jefferson Davis Highway, Arlington, Virginia, 22202-3259.

FOR FURTHER INFORMATION CONTACT: Barry S. Lineback, Telephone: (703) 603-7740, Fax: (703) 603-0655, or email CMTEFedReg@AbilityOne.gov.

SUPPLEMENTARY INFORMATION:

Additions

On 4/27/2012 (77 FR 25146-25147); 5/18/2012 (77 FR 29596); 6/1/2012 (77 FR 32591-32592); 6/8/2012 (77 FR 34026-34027; and 6/15/2012 (77 FR 35942-35944), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 USC 8501-8506) in connection with the products and services proposed for addition to the Procurement List.

End of Certification

Accordingly, the following products and services are added to the Procurement List:

Products

Combat Arms Ear Plug

NSN: 6515-01-576-8796—Skull Screws Ear Plug, Single Ended, Universal Size.

NSN: 6515-01-576-8837—Single Ended, Size Small.

NSN: 6515-01-576-8861—Single Ended, Size Medium.

NSN: 6515-01-576-8869—Single Ended, Size Large.

NSN: 6515-01-466-2710—Dual Ended, Universal Size.

NPA: New Dynamics Corporation, Middletown, NY.

Contracting Activity: Defense Logistics Agency Troop Support, Philadelphia, PA.

Coverage: C-List for 100% of the requirement of the Department of Defense for the National Stock Numbers (NSNs) specified, as aggregated by the Defense Logistics Agency Troop Support, Philadelphia, PA.

A comment was received from a Department of the Army civilian program staff member who expressed opposition to adding the Combat Arms Ear Plugs (ear plugs) to the Procurement List due to his concern that it could impact on-going studies into other ear protection for Army soldiers. The Army program office subsequently withdrew their objection and indicated their support for adding the ear plugs to the Procurement List while acknowledging that the Army may continue other ear protection studies if it is determined appropriate.

Accordingly, following a deliberative review of all information, the Committee has determined that it is appropriate to add the ear plugs specified by the National Stock Numbers (NSNs) referenced to the Procurement List.

Binder, Loose-Leaf

NSN: 7510-01-392-5283—3 D-Ring, No Overlay, Black, 5”

NSN: 7510-01-495-0696—Slant 3 D-Ring with Overlay, White, 4”

NPA: South Texas Lighthouse for the Blind, Corpus Christi, TX

Contracting Activity: General Services Administration, New York, NY COVERAGE: A-List for the Total Government Requirement as aggregated by the General Services Administration.

Copy Paper, 100% Recycled, Convenience Pack

NSN: 7530-00-NIB-0890—8.5 x 11, Reamless 2500 Sheet.

NSN: 7530-00-NIB-0891—8.5 x 11, Ream Wrapped 2500 Sheet.

NPA: Association for Vision Rehabilitation and Employment, Inc., Binghamton, NY.

Contracting Activity: General Services Administration, New York, NY.

Coverage: A-List for the Total Government Requirement as aggregated by the General Services Administration.

Hose, Fire, Orange

NSN: 4210-01-131-0247—2 1/2” x 50'.

NSN: 4210-01-131-0249—1 1/2” x 50'.

NSN: 4210-01-220-6648—4” x 50'.

NSN: 4210-01-264-3871—1 1/2” x 25'.

NPA: NewView Oklahoma, Inc., Oklahoma City, OK.

Contracting Activity: Defense Logistics Agency Troop Support, Philadelphia, PA.

Coverage: C-List for 25% of the requirement of the U.S. Navy, as aggregated by the Defense Logistics Agency Troop Support, Philadelphia, PA.

NSN: MR 1026—Broom, Tilt Angle.

NSN: MR 1030—Set, Upright Broom and Dustpan.

NPA: Industries for the Blind, Inc., West Allis, WI.

Contracting Activity: Military Resale-Defense Commissary Agency, Fort Lee, VA.

Coverage: C-List for the requirements of military commissaries and exchanges as aggregated by the Defense Commissary Agency.

Services

Service Type/Location: CBRNE Kit Sustainment and Replenishment,

Naval Medical Logistics Command,

(Offsite: 10440 Trenton Avenue, St. Louis, MO),

693 Nelman Street,

Fort Detrick, MD.

NPA: The Lighthouse for the Blind, St. Louis, MO.

Contracting Activity: Dept of the Navy, Naval Medical Logistics Command, Fort Detrick, MD.

Service Type/Location: Custodial and Landscaping Service,

Rome Federal Building,

600 East First Street,

Rome, GA.

NPA: Sara's Mentoring Center, Inc., Virginia Beach, VA

Contracting Activity: General Services Adminisration, Public Buildings Service, Acquisition Division/Services Branch, Atlanta, GA.

Service Type/Location: Mail Service,

US Soldiers Systems Center,

Kansas Street, Building 20,

Natick, MA.

NPA: Community Workshops, Inc., Boston, MA

Contracting Activity: Dept of the Army, W6QK ACC-APG Natick, Natick, MA.

Service Type/Location: Custodial Service,

Transportation Security Administration (TSA) Space,

Lehigh Valley International Airport,

3311 Airport Rd,

Allentown, PA.

NPA: Via of the Lehigh Valley, Inc., Bethlehem, PA

Contracting Activity: General Services Adminisration, Public Buildings Service, R03 Regionalcontracts Support Services Section, Philadelphia, PA.

Service Type/Location: Custodial Service.

National Oceanic and Atmospheric Administration (NOAA)

National Weather Service

32 Dawes Drive

Johnson City, NY

NPA: Human Technologies Corporation, Utica, NY

Contracting Activity: Dept of Commerce, National Oceanic and Atmospheric Administration, Norfolk, VA.

Service Type/Location: Janitorial/Custodial Service.

WA104 Seattle-Marysville Armed Forces Reserve Center (AFRC),

13613 40th Avenue NE.,

Marysville, WA.

NPA: Portland Habilitation Center, Inc., Portland, OR.

Contracting Activity: Dept of the Army, W6QM MICC-ARCC North, Fort McCoy, WI.

Barry S. Lineback,
Director, Business Operations.

[FR Doc. 2012-19034 Filed 8-2-12; 8:45 am]

BILLING CODE 6353-01-P